LIBRARY OF CONGRESS

Copyright Office

[Docket No. RM 2005-7]

Satellite Home Viewer Extension and Reauthorization Act of 2004

AGENCY: Copyright Office, Library of Congress.

ACTION: Extension of comment period.

SUMMARY: The Copyright Office of the Library of Congress is extending the time in which comments can be filed in response to its Notice of Inquiry requesting information for the preparation of the first report to the Congress required by the Satellite Home Viewer Extension and Reauthorization Act of 2004.

DATES: Comments are due no later than September 1, 2005. Reply comments are due no later than September 22, 2005.

ADDRESSES: If hand delivered by a private party, an original and five copies of a comment should be brought to Room LM-401 of the James Madison Memorial Building between 8:30 a.m. and 5 p.m. and the envelope should be addressed as follows: Office of the General Counsel, U.S. Copyright Office, James Madison Memorial Building, Room LM-401, 101 Independence Avenue, SE, Washington, DC 20559-6000. If delivered by a commercial courier, an original and five copies of a comment must be delivered to the Congressional Courier Acceptance Site located at 2nd and D Streets, NE, between 8:30 a.m. and 4 p.m. The envelope should be addressed as follows: Office of the General Counsel, Room LM-403, James Madison Memorial Building, 101 Independence Avenue, SE, Washington, DC. If sent by mail (including overnight delivery using U.S. Postal Service Express Mail), an original and five copies of a comment should be addressed to U.S. Copyright Office, Copyright GC/I&R, P.O. Box 70400, Southwest Station, Washington, DC 20024. Comments may not be delivered by means of overnight delivery services such as Federal Express, United Parcel Service, etc., due to delays in processing receipt of such deliveries.

FOR FURTHER INFORMATION CONTACT: Tanya Sandros, Associate General Counsel, Copyright GC/I&R, P.O. Box 70400, Southwest Station, Washington, DC 20024. Telephone: (202) 707-8380. Telefax: (202) 707-8366.

SUPPLEMENTARY INFORMATION: On December 8, 2004, the President signed the Satellite Home Viewer Extension and Reauthorization Act of 2004 (“SHVERA”), a part of the Consolidated Appropriations Act of 2005, Pub. L. No. 108-447. In addition to extending for an additional five years the statutory license for satellite carriers retransmitting over-the-air television broadcast stations to their subscribers and making a number of amendments to the existing section 119 of the Copyright Act, SHVERA directs the Copyright Office to conduct two studies and report its findings to the Committee on the Judiciary of the House of Representatives and the Committee on the Judiciary of the Senate. One study, due by December 31, 2005, requires the Office to examine select portions of the section 119 license and to determine what, if any, impact sections 119 and 122 have had on copyright owners whose programming is transmitted by satellite carriers. To assist in the preparation of this study, the Office published a Notice of Inquiry seeking comments on questions posed regarding various aspects of the study. See 70 FR 39343 (July 7, 2005). Initial comments were due to be filed on August 22, 2005; reply comments were due to be filed on September 12, 2005.

The Copyright Office has received a request from various potential commenters to extend the comment period by 10 days in order to allow sufficient time to provide the Office with comprehensive comments. Given the complexity of the issues raised by the study, the Office has decided to extend the deadline for filing comments by a period of 10 days, making initial comments due on September 1, 2005; likewise, the period for filing reply comments also will be extended by 10 days, making reply comments due on September 22, 2005.

Dated: August 10, 2005
Jule L. Sigall,
Acting Register of Copyrights.

[FR Doc. 05-16125 Filed 8-12-05; 8:45 am]

BILLING CODE 1410-33-S